DEPARTMENT OF ENERGY

Federal Energy Regulatory Commission

Combined Notice of Filings #1

May 02, 2008.

Take notice that the Commission has received the following Natural Gas Pipeline Rate and Refund Report filings:

Docket Numbers: RP05-164-012.

Applicants: Equitrans, L.P.

Description: Equitrans LP submits Twelfth Revised Sheet 11 to FERC Gas Tariff, First Revised Volume 1, to become effective 6/1/08.

Filed Date: 04/30/2008.

Accession Number: 20080501-0089.

Comment Date: 5 p.m. Eastern Time on Monday, May 12, 2008.

Docket Numbers: RP07-690-002.

Applicants: Southern Natural Gas Company.

Description: Southern Natural Gas Company submits Fifth Revised Sheet 123 et al to FERC Gas Tariff, Seventh Revised Volume 1.

Filed Date: 04/30/2008.

Accession Number: 20080501-0090.

Comment Date: 5 p.m. Eastern Time on Monday, May 12, 2008.

Docket Numbers: RP08-336-000.

Applicants: East Tennessee Natural Gas, LLC.

Description: East Tennessee Natural Gas LLC submits Second Revised Sheet 15 to FERC Gas Tariff, Third Revised Volume 1, to become 6/1/08.

Filed Date: 04/30/2008.

Accession Number: 20080501-0026.

Comment Date: 5 p.m. Eastern Time on Monday, May 12, 2008.

Docket Numbers: RP08-338-000.

Applicants: Tennessee Gas Pipeline Company.

Description: Tennessee Gas Pipeline Company submits Third Revised Sheet 158 et al to FERC Gas Tariff, Fifth Revised Volume 1, to become effective 6/1/08.

Filed Date: 04/30/2008.

Accession Number: 20080501-0025.

Comment Date: 5 p.m. Eastern Time on Monday, May 12, 2008.

Docket Numbers: RP08-350-000.

Applicants: Southern Star Central Gas Pipeline, Inc.

Description: Southern Star Central Gas Pipeline submits Volume IV—Notice of Rate Change to be effective June 1, 2008.

Filed Date: 04/30/2008.

Accession Number: 20080501-0076.

Comment Date: 5 p.m. Eastern Time on Monday, May 12, 2008.

Docket Numbers: RP08-351-000.

Applicants: Sea Robin Pipeline Company, LLC.

Description: Sea Robin Pipeline Company submits Third Revised Sheet 4 to its FERC Gas Tariff, Second Revised Volume 1, to become effective 6/1/08.

Filed Date: 04/30/2008.

Accession Number: 20080501-0091.

Comment Date: 5 p.m. Eastern Time on Monday, May 12, 2008.

Docket Numbers: RP08-352-000.

Applicants: Panhandle Eastern Pipe Line Company, LP.

Description: Panhandle Eastern Pipe Line Company, LP submits Fourth Revised Sheet 3B to its FERC Gas Tariff, Third Revised Volume 1 proposed to become effective June 1, 2008.

Filed Date: 04/30/2008.

Accession Number: 20080502-0002.

Comment Date: 5 p.m. Eastern Time on Monday, May 12, 2008.

Docket Numbers: RP08-353-000.

Applicants: Trunkline Gas Company, LLC.

Description: Trunkline Gas Company, LLC submits Third Revised Sheet 6 et al. to its FERC Gas Tariff, Third Revised Volume 1 proposed to be effective June 1, 2008.

Filed Date: 04/30/2008.

Accession Number: 20080502-0001.

Comment Date: 5 p.m. Eastern Time on Monday, May 12, 2008.

Docket Numbers: RP08-354-000.

Applicants: Guardian Pipeline, L.L.C.

Description: Guardian Pipeline, LLC submits Original Sheet 43D.01 et al. to its FERC Gas Tariff, Original Volume 1.

Filed Date: 04/30/2008.

Accession Number: 20080502-0004.

Comment Date: 5 p.m. Eastern Time on Monday, May 12, 2008.

Docket Numbers: RP08-355-000.

Applicants: National Fuel Gas Supply Corporation.

Description: National Fuel Gas Supply Corporation submits 114th Revised Sheet 9 to its FERC Gas Tariff, Fourth Revised Volume 1, to become effective May 1, 2008.

Filed Date: 04/30/2008.

Accession Number: 20080502-0003.

Comment Date: 5 p.m. Eastern Time on Monday, May 12, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E8-10156 Filed 5-7-08; 8:45 am]

BILLING CODE 6717-01-P